SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB),Office of Management and Budget,Attn: Desk Officer for SSA,New Executive Office Building, Room 10230,725 17th St., NW.,Washington, DC 20503

(SSA),Social Security Administration, DCFAM,Attn: SSA Reports Clearance Officer, 1-A-21 Operations Bldg.,6401 Security Blvd.,Baltimore, MD 21235

I. The information collections listed below will be submitted to OMB within 60 days from the date of this notice. Therefore, your comments should be submitted to SSA within 60 days from the date of this publication. You can obtain copies of the collection instruments by calling the SSA Reports Clearance Officer at 410-965-4145, or by writing to him at the address listed above.

1. Employer Report of Special Wage Payments—0960-0565. The Social Security Administration (SSA) gathers the information on Form SSA-131 to prevent earnings related overpayments to employees and to avoid erroneous withholding. The respondents are employers who provide special wage payment verification.

Number of Respondents: 30,000.

Frequency of Response: 1.

Average Burden Per Response: 20 minutes.

Estimated Annual Burden: 10,000 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Representative Payee Report—0960-0068. Sections 205(j) and 1631(a)(2) provide for the payment of Social Security and Supplemental Security Income benefits to a relative, another person or an organization (referred to as representative payee) when the best interests of the beneficiary would be served. These sections also provide that SSA monitor how the benefits were used. SSA uses forms SSA-623 and SSA-6230 to collect this information. SSA needs the information to determine whether the payments provided to the representative payee have been used for the beneficiary's current maintenance and personal needs and whether the representative payee continues to be concerned with the beneficiary's welfare. The respondents are representative payees designated to receive funds on behalf of Social Security and Supplemental Security Income (SSI) recipients.

Number of Respondents: 5,527,755.

Frequency of Response: 1.

Average Burden Per Response: 15 minutes.

Estimated Annual Burden: 1,381,939 hours.

2. Reporting Events, SSI—0960-0128. SSI applicants, recipients and their representative payees use Form SSA-8150-EV (or the Spanish version) to report by mail changes in circumstances that could affect eligibility for SSI. SSA uses the reported changes on the form to determine eligibility and correct payment amounts for SSI payments, which may include federally administered State supplementary payments. The respondents are SSI applicants, recipients, and their representative payees.

Number of Respondents: 33,200.

Frequency of Response: 1.

Average Burden Per Response: 5.

Estimated Annual Burden: 2,767 hours.

Dated: October 16, 2001.
Frederick W. Brickenkamp,
Reports Clearance Officer.

[FR Doc. 01-26469 Filed 10-19-01; 8:45 am]

BILLING CODE 4191-02-U